DEPARTMENT OF AGRICULTURE

Forest Service

Siskiyou, or Resource Advisory Committee

AGENCY: Forest Service, USDA.

ACTION: Notice of meeting.

SUMMARY: The Siskiyou, OR Resource Advisory Committee will meet in Kerby, Oregon. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is to review and recommend projects submitted for funding under Title II of The Secure Rural Schools and Community Self Determination Act of 2000, review existing projects, and elect a chairperson.

DATES: The meeting will be held September 21, 2012, 8:30 a.m..

ADDRESSES: The meeting will be held at Rogue Community College, Illinois Valley Learning Center, Kerby Belt Building, 24353 Redwood Highway, Kerby, Oregon 97531. Written comments may be submitted as described under Supplementary Information.

All comments, including names and addresses when provided, are placed in the record and are available for public inspection and copying. The public may inspect comments received at the Medford Interagency Office, 3040 Biddle Road, Medford, OR 97504. Please call ahead to (541) 618-2113 to facilitate entry into the building to view comments.

FOR FURTHER INFORMATION CONTACT: Virginia Gibbons, Public Affairs Officer, Rogue River-Siskiyou National Forest, (541) 618-2113, vgibbons@fs.fed.us.

Individuals who use telecommunication devices for the deaf (TDD) may call the Federal Information Relay Service (FIRS) at 1-800-877-8339 between 8:00 a.m. and 8:00 p.m., Eastern Standard Time, Monday through Friday. Requests for reasonable accomodation for access to the facility or procedings may be made by contacting the person listed For Further Information.

SUPPLEMENTARY INFORMATION: The following business will be conducted: Elect new Chairperson; review status of FY2009, FY2010, FY2011, and FY2012 projects selected by the Siskiyou, OR Resource Advisory Committee; review and recommend FY2013 projects to the Designated Federal Official. Anyone who would like to bring related matters to the attention of the committee may file written statements with the committee staff before or after the meeting. The agenda will include a public forum period providing individuals the opportunity to make oral statements of three minutes or less.

Dated: August 20, 2012.
Donna M. Mickley,
Acting Deputy Forest Supervisor.

[FR Doc. 2012-20993 Filed 8-24-12; 8:45 am]

BILLING CODE 3410-11-P